DEPARTMENT OF ENERGY

National Nuclear Security Administration

Advisory Committee for Nuclear Security

AGENCY: Office of Defense Programs, National Nuclear Security Administration, Department of Energy.

ACTION: Notice of closed meeting.

SUMMARY: This notice announces a closed meeting of the Advisory Committee for Nuclear Security (ACNS). The Federal Advisory Committee Act requires that public notice of meetings be announced in the Federal Register. Due to national security considerations, the meeting will be closed to the public and matters to be discussed are exempt from public disclosure.

DATES: March 26, 2024; 9 a.m. to 5 p.m.

ADDRESSES: In-person meeting.

FOR FURTHER INFORMATION CONTACT: Allyson Koncke-Fernandez, Office of Policy and Strategic Planning (NA-1.1) National Nuclear Security Administration, U.S. Department of Energy, 1000 Independence Avenue SW, Washington, DC 20585, (202) 287-5327, allyson.koncke-fernandez@nnsa.doe.gov.

SUPPLEMENTARY INFORMATION:

Background: The ACNS provides advice and recommendations to the Under Secretary Nuclear Security & Administrator, NNSA areas and those of the National Nuclear Security Administration.

Purpose of the Meeting: The Quarterly meeting of the Advisory Committee for Nuclear Security (ACNS) will cover the current status of Committee activities as well as additional charges and is expected to contain discussions of a sensitive nature.

Type of Meeting: In the interest of national security, the meeting will be closed to the public under Executive Order 13526 and the Atomic Energy Act of 1954. The Federal Advisory Committee Act, 5 U.S.C. app. 2, section 10(d), and the Federal Advisory Committee Management Regulation, 41 CFR 102-3.155, incorporate by reference the Government in the Sunshine Act, 5 U.S.C. 552b, which, at 552b(c)(1) and (c)(3) permits closure of meetings where restricted data or other classified matters will be discussed.

Tentative Agenda: Welcome; Headquarters and ACNS Updates; discussion of reports and current actions; discussion of next charges; conclusion.

Public Participation: There will be no public participation in this closed meeting. Those wishing to provide written comments or statements to the Committee are invited to send them to Allyson Koncke-Fernandez at the address listed in the FOR FURTHER INFORMATION CONTACT section.

Minutes: The minutes of the meeting will not be available.

Signing Authority: This document of the Department of Energy was signed on February 26, 2024, by David Borak, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 27, 2024.
Treena V. Garrett,
Federal Register Liaison Officer, U.S. Department of Energy.

[FR Doc. 2024-04368 Filed 2-29-24; 8:45 am]

BILLING CODE 6450-01-P